NATIONAL SCIENCE FOUNDATION

Proposal Review Panel for International Science and Engineering; Notice of Meeting

In accordance with the Federal Advisory Committee Act (Pub. L. 92-463, as amended), the National Science Foundation (NSF) announces the following meeting:

Name and Committee Code: Proposal Review Panel for International Science and Engineering—PIRE: Integrated Computational Materials Engineering for Active Materials and Interfaces in Chemical Fuel Production—(#10749) Site Visit.

Date and Time: September 24, 2018; 8:00 a.m.-9:30 p.m., September 25, 2018; 8:00 a.m.-4:30 p.m.

Place: University of Illinois—Urbana Champaign, Urbana, Illinois 61801.

Type of Meeting: Part Open.

Contact Person: Cassandra Dudka, PIRE Program Manager, National Science Foundation, 2415 Eisenhower Avenue, Alexandria, VA 22314; Telephone 703/292-7250.

Purpose of Meeting: NSF site visit to conduct a review during year 3 of the five-year award period. To conduct an in-depth evaluation of performance, to assess progress towards goals, and to provide recommendations.

Agenda: See attached.

Reason for Closing: Topics to be discussed and evaluated during closed portions of the site review will include information of a proprietary or confidential nature, including technical information; and information on personnel. These matters are exempt under 5 U.S.C.552b(c), (4) and (6) of the Government in the Sunshine Act.

Dated: August 20, 2018.
Crystal Robinson,
Committee Management Officer.

PIRE Site Visit Agenda—University of Illinois, Urbana-Champaign, Room 3269, Beckman Institute

Day 1—Monday, September 24, 2018

8:00 a.m.-9:00 a.m. Introduction to PIRE

PIRE Rationale and Goals; Administration, Management, and Budget Plans; N. Aluru (40 mins presentation + 20 mins Q&A)

9:00 a.m.-10:00 a.m. Research—Thrust 1: Novel Proton & Oxygen Ion Conducting Systems

L. Martin and H. Matsumoto (40 mins presentation + 20 mins Q&A)

10:00 a.m.-10:20 a.m. NSF Executive Session/Break, 3369 Beckman (CLOSED)

10:20 a.m.-11:20 a.m. Research—Thrust 2: Novel Electrodes—Chemistry & Microstructure

E. Ertekin, N. Perry, A. Staykov (45 mins presentation + 15 mins Q&A)

11:20 a.m.-11:30 a.m. Rapid Fire Poster Presentation by Students

All the students and postdocs present a 1 min introduction to their poster; If it is more than 10 students/postdocs, we will increase the time

11:30 a.m.-Noon Poster Session

Noon-12:30 p.m. NSF Executive Session 3369 Beckman (CLOSED)

12:30 p.m.-1:30 p.m. Lunch—Discussion with Students (CLOSED)

1:30 p.m.-2:30 p.m. Research—Thrust 3: Degradation—Mechanisms & Mitigation

S. Barnett and P. Sofronis (40 mins presentation + 20 mins Q&A)

2:30 p.m.-3:00 p.m. Education, Outreach, Human Resources, Diversity

E. Ertekin (20 mins presentation + 10 mins Q&A)

3:00 p.m.-3:30 p.m. NSF Executive Session/Break 3369 Beckman (CLOSED)

3:30 p.m.-4:00 p.m. Partnerships, Exchange, Evaluation

N. Aluru, P. Sofronis, H. Matsumoto, L. Rosu (20 mins presentation + 10 mins Q&A)

4:00 p.m.-5:30 p.m. Tour of Materials Research Laboratory (MRL)

Meet Dr. Mauro Sardela outside MRL Business Office Area (2nd Floor of MRL)

5:30 p.m.-6:15 p.m. Executive Session—Develop Questions and Areas for Clarification 3369 Beckman (CLOSED)

6:15 p.m.-6:30 p.m. Feedback to PIRE PIs

6:30 p.m. PIRE PI Executive Session (CLOSED)

PIRE PIs Prepare Response to NSF/Panel Questions

6:30 p.m.-8:30 p.m. NSF Executive Session/Working Dinner (CLOSED)

Committee organizes on its own

Day 2—Tuesday, September 25, 2018, Room 3269, Beckman Institute

8:30 a.m.-9:00 a.m. Institutional Support (CLOSED)

Jeffrey S. Moore, Director, Beckman Institute for Advanced Science and Technology

Meredith Blumthal, Director, International Programs (IPENG) College of Engineering

9:00 a.m.-10:00 a.m. PIRE PIs Response to Feedback (CLOSED)

10:00 a.m.-4:00 p.m. Site Review Team Prepares Site Visit Report 3369 Beckman (CLOSED)

Working Lunch Provided

4:00 p.m.-4:30 p.m. Presentation of Site Visit Report to PIRE PIs (CLOSED)

[FR Doc. 2018-18223 Filed 8-22-18; 8:45 am]

BILLING CODE 7555-01-P